SMALL BUSINESS ADMINISTRATION

[Disaster Declaration # 11167 and # 11168]

Tennessee Disaster Number TN-00018

AGENCY: U.S. Small Business Administration,

ACTION: Amendment 1.

SUMMARY: This is an amendment of the Presidential declaration of a major disaster for the State of Tennessee (FEMA—1745—DR), dated 02/07/2008.

Incident: Severe Storms, Tornadoes, Straight-Line Winds, and Flooding

Incident Period: 02/05/2008 through 02/06/2008.

Effective Date: 02/12/2008.

Physical Loan Application Deadline Date: 04/07/2008.

EIDL Loan Application Deadline Date: 11/07/2008.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, Suite 6050, Washington, DC 20416.

SUPPLEMENTARY INFORMATION: The notice of the Presidential disaster declaration for the State of Tennessee, dated 02/07/2008 is hereby amended to include the following areas as adversely affected by the disaster:

Primary Counties: Benton, Hickman, Houston, Lewis, Montgomery, Perry, Trousdale, Williamson.

Contiguous Counties:

Kentucky: Christian, Todd.

Tennessee: Cheatham, Dickson, Henry, Humphreys, Lawrence, Marshall, Maury, Rutherford, Stewart.

All other information in the original declaration remains unchanged.

(Catalog of Federal Domestic Assistance Numbers 59002 and 59008)

Herbert L. Mitchell,
Associate Administrator for Disaster Assistance.

[FR Doc. E8-3336 Filed 2-21-08; 8:45 am]

BILLING CODE 8025-01-P